DEPARTMENT OF TRANSPORTATION

Coast Guard

[USCG-2001-9187]

Tonnage—Application for Simplified Measurement

AGENCY: Coast Guard, DOT.

ACTION: Notice of availability of form.

SUMMARY: The Coast Guard has revised the Application for Simplified Measurement (CG-5397) used to determine vessels' tonnages under the system of Simplified Measurement and has made the form available on the Web site of its Marine Safety Center. The new revision date is 12-00. The new form should help to reduce errors in calculating tonnage. Having it available on our Web site will provide easier access to obtaining the form, as well as information on formulation and estimation of vessels' tonnage.

DATES: The new Application for Simplified Measurement became effective on January 19, 2001. The form is available now. This notice calls for no public comments.

FOR FURTHER INFORMATION CONTACT: For questions on this notice, contact Mr. Frank Perrini, U.S. Coast Guard Marine Safety Center, Attn: Tonnage Survey Branch, 400 7th Street, SW., Washington, DC 20590-0001, telephone (202) 366-6441, e-mail fperrini@msc.uscg.mil.

SUPPLEMENTARY INFORMATION:

Background

Congress authorized a system of Simplified Measurement under the Tonnage Measurement Simplification Act of 1980 [Pub. L. 96-594] to provide owners of specific categories of vessels with an alternative to formal measurements of tonnage by the Coast Guard or by authorized measurement organizations. The rules for all domestic measurements of tonnage appear at 46 CFR part 69.

To get a vessel documented under the system for Simplified Measurement, an owner measures it, enters the dimensions on the Application for Simplified Measurement (CG-5397), and submits it to the National Vessel Documentation Center (NVDC) along with an Application for Documentation (CG-1258), title evidence, processing fee, and any other requirement identified by the NVDC. Under some circumstances, in lieu of an Application for Simplified Measurement, the dimensions may be taken from a Builder's Certificate and First Transfer of Title (CG-1261) which has the information in Part III “Dimensions” completed. A documentation officer of the NVDC enters the data into a computer system to calculate the tonnage. If the vessel measures at least five net register tons and qualifies, the NVDC can process the Application for Documentation and issue a Certificate of Documentation reflecting the appropriate tonnage.

Until the advent of personal computers, owners of vessels lacked ready access to the formulas for Simplified Measurement and to copies of CG-5397. Many would have to call the Marine Safety Center (MSC) or the NVDC to determine their vessels' tonnages to compare them with thresholds either for documentation or to meet regulatory requirements. They would also have to ask the NVDC for paper copies of CG-5397.

Beyond the difficulties with obtaining copies of the form, there were a number of problems with the previous version of CG-5397, including these:

(1) Vessels' characteristics covered both sides of the form, requiring submitters and documentation officers, respectively, to fill out and review two sides.

(2) Certain characteristics such as hull material, propulsion type, hull shape, and deckhouse size were ambiguous.

(3) Statements on the regulatory application were not comprehensive.

(4) Nothing gave submitters either a description of the process or instructions on submitting the form.

Discussion

Purpose of Revision

The MSC revised the CG-5397 under its continuous-improvement program to reduce—

(1) Errors in calculating tonnage;

(2) The burden on the public in obtaining copies of the form; and

(3) The need of the public for added information on formulation and estimates of vessels' tonnages.

All of the above serve to save time and resources for owners and builders of vessels, private documentation services, the NVDC, and the MSC.

Approach to Revision

The MSC reformatted the CG-5397 to place all the characteristics of vessels as input data on the obverse (front) page, and to place definitions of dimensions of vessels, procedures for calculating tonnage and for documentation in general, and instructions on the reverse page. The number of entries on the new form diminished, thus lightening the burden of paperwork on the public.

The MSC uploaded the CG-5397 in its Web site, with a link to the page with forms from the Web site of the NVDC, to provide owners and builders of vessels, and private documentation services, with access to software for calculating tonnage and with the ability to download the form locally on a personal computer.

Access to Form

The new CG-5397 is available on the Web site of the MSC at www.uscg.mil/hq/msc and on the link to the page with forms from the NVDC at www.uscg.mil/hq/g-m/vdoc/nvdc.htm.

Superseded CG-5397 Forms

To avoid unnecessary burden to the public, the NVDC will continue to accept older versions of CG-5397 for documentation.

Dated: March 20, 2001.
Howard L. Hime,
Acting Director of Standards.

[FR Doc. 01-7386 Filed 3-28-01; 8:45 am]

BILLING CODE 4910-15-U